DEPARTMENT OF LABOR

Mine Safety and Health Administration

Petitions for Modification

The following parties have filed petitions to modify the application of existing safety standards under section 101(c) of the Federal Mine Safety and Health Act of 1977 and 30 CFR part 44.

1. Jim Walter Resources, Inc.

[Docket No. M-2006-062-C]

Jim Walter Resources, Inc., P.O. Box 133, Brookwood, Alabama 35444 has filed a petition to modify the application of 30 CFR 75.1711-1 (Sealing of shaft openings) to its No. 4 Mine (MSHA I.D. No. 01-01247), No. 5 Mine (MSHA I.D. No. 01-01322), and No. 7 Mine (MSHA I.D. No. 01-01401) all located in Tuscaloosa County, Alabama. The petitioner requests a modification of the existing standard to eliminate the requirement to cap shafts with vent pipes. The petitioner states that in previous experiences of equipping caps with vent pipes, in some instances, methane was believed to have existed within the explosive range immediately beneath the cap and oxygen was present in sufficient quantities to support an ignition or an explosion. The petitioner states that to equip caps with vent pipes will be more detrimental to miners' safety and health than the current proposal. The petitioner asserts that the proposed alternative method would provide at least the same measure of protection as the existing standard.

2. Jim Walter Resources, Inc.

[Docket No. M-2006-063-C]

Jim Walter Resources, Inc., P.O. Box 133, Brookwood, Alabama 35444 has filed a petition to modify the application of 30 CFR 75.364(b)(1) (Weekly examination) to its No. 7 Mine (MSHA I.D. No. 01-01401) located in Tuscaloosa County, Alabama. The petitioner requests a modification of the existing standard to eliminate the requirement to inspect each intake air course in the Western and Eastern areas of the No. 7 Mine. The petitioner states that the affected areas of the mine have fallen into disrepair and it is extremely burdensome and dangerous to rehabilitate each segment of the area because to travel either segment will result in a diminution of safety and health to the miners. The petitioner further states that the fresh air traveling through each segment of the area continues to be necessary to adequately ventilate active workings by diluting and carrying away large quantities of methane and coal dust where miners are working underground. The petitioner proposes to monitor the northern and southern ends of each segment of the mine on a weekly basis to measure air quantity or quality conditions. The petitioner asserts that the proposed alternative method would provide at least the same measure of protection as the existing standard and sealing of the area would reduce ventilation which will result in a diminution of safety to miners.

3. Bridger Coal Company

[Docket No. M-2006-064-C]

Bridger Coal Company, P.O. Box 68, Point of Rocks, Wyoming 82942 has filed a petition to modify the application of 30 CFR 75.500(d) (Permissible electric equipment) to its Bridger Underground Mine (MSHA I.D. No. 48-01646) located in Sweetwater County, Wyoming. The petitioner requests a modification of the existing standard to permit the use of non-permissible low-voltage or battery-powered, electronic testing and diagnostic equipment, in or inby the last open crosscut. The petitioner proposes to use the following equipment within 150 feet of pillar workings: Laptop computers, oscilloscopes, vibration analysis machines, cable fault detectors, point temperature probes, infrared temperature devices, insulation testers (meggers), voltage, current and power measurement devices and recorders, pressure flow measurement devices, signal analyzer devices, ultrasonic thickness gauges, electronic component testers, and electronic tachometers, and other testing and diagnostic equipment if approved in advance by the District Manager. The Petitioner states that due to the size, complexity, and location of the equipment being tested and diagnosed, it is nearly impossible and potentially unsafe to move the equipment at least 150 feet outby the pillar line once the equipment has broken down. The petitioner asserts that application of the existing standard will result in a diminution of safety to the miners and the proposed alternative method would provide at least the same measure of protection as the existing standard. The petitioner further states that use of non-permissible electronic testing and diagnostic equipment in or inby the last open crosscut would be used with designated restrictions which would at all times guarantee no less than the same level of protection as the standard.

4. Bridger Coal Company

[Docket No. M-2006-065-C]

Bridger Coal Company, P.O. Box 68, Point of Rocks, Wyoming 82942 has filed a petition to modify the application of 30 CFR 75.1002 (Installation of electric equipment and conductors; permissibility) to its Bridger Underground Mine (MSHA I.D. No. 48-01646) located in Sweetwater County, Wyoming. The petitioner requests a modification of the existing standard to permit use of low-voltage or battery-powered non-permissible, electronic testing, diagnostic equipment, in or inby the last open crosscut. The petitioner proposes to use the following equipment within 150 feet of pillar workings: Laptop computers, oscilloscopes, vibration analysis machines, cable fault detectors, point temperature probes, infrared temperature devices, insulation testers (meggers), voltage, current and power measurement devices and recorders, pressure flow measurement devices, signal analyzer devices, ultrasonic thickness gauges, electronic component testers, and electronic tachometers, and other testing and diagnostic equipment if approved in advance by the District Manager. The petitioner states that application of the existing standard will result in a diminution of safety to the miners because due to the size, complexity, and location of the equipment being tested and diagnosed, it is nearly impossible and potentially unsafe to move the equipment at least 150 feet outby the pillar line once the equipment has broken down. The petitioner asserts that the proposed alternative method would provide at least the same measure of protection as the existing standard. The petitioner further states that use of non-permissible electronic testing and diagnostic equipment in or inby the last open crosscut would be used with designated restrictions which would at all times guarantee no less than the same level of protection as the standard.

5. Mosaic Potash Carlsbad, Inc.

[Docket No. M-2006-006-M]

Mosaic Potash Carlsbad, Inc., P.O. Box 71, 1361 Potash Mines Road, Carlsbad, New Mexico 88221-0071 has filed a petition to modify the application of 30 CFR 57.15031 (Location of self-rescue devices) to its Underground Potash Mine (MSHA I.D. No. 29-00802) located in Eddy County, New Mexico. The petitioner proposes to use 10 minute (Ocenco M-20 or equivalent) on the miner's belt in concert with a 60 minute Self-Contained Self-Rescuer (SCSR) located nearby in their Mosaic Underground Potash Mine. The petitioner states that the miner will wear the M-20 units (MSHA rated at 10 minutes) on their person and a 60 minute unit (the SR-100, EBA 6.5 or equivalent MSHA rated for 60 minutes) on their vehicles or equipment. These units will be located within 300 to 500 feet or 5 minutes maximum of the employee. The combination of devices will be made available to all employees working underground and maintained in good condition. The petitioner further states that: (1) This proposal will satisfy the State Mining Act while enabling the miners to wear an ergonomically suitable SCSR on their belt; (2) the alternative to the smaller M-20 type are bulky and heavy units that will expose the miners to additional risk associated with a large and heavy unit hanging off their belt; and (3) the current MSA W-65 filter self rescuer (Approval No. TC-14G-82) weighs 2.2 pounds, and the smallest SCSR is the SR-100 which weighs 6 pounds and is approximately 2.5 larger than the W-65 filter and is awkward to wear. The petitioner asserts that the proposed alternative method would provide at least the same measure of protection as the existing standard.

6. Mosaic Potash Carlsbad, Inc.

[Docket No. M-2006-007-M]

Mosaic Potash Carlsbad, Inc., P.O. Box 71, 1361 Potash Mines Road, Carlsbad, New Mexico 88221-0071 has filed a petition to modify the application of 30 CFR 57.15030 (Provision and maintenance of self-rescue devices) to its Mosaic Underground Potash Mine (MSHA I.D. No. 29-00802) located in Eddy County, New Mexico. The petitioner states that the miner will wear the M-20 units (MSHA rated at 10 minutes) on their person and a 60 minute unit (the SR-100, EBA 6.5 or equivalent MSHA rated for 60 minutes) on their vehicles or equipment. These units will be located within 300 to 500 feet or 5 minutes maximum of the employee. The combination of devices will be made available to all employees working underground and maintained in good condition. The petitioner further states that: (1) This proposal will satisfy the State Mining Act while enabling the miners to wear an ergonomically suitable SCSR on their belt; (2) the alternative to the smaller M-20 type are bulky and heavy units that will expose the miners to additional risk associated with a large and heavy unit hanging off their belt; and (3) the current MSA W-65 filter self rescuer (Approval No. TC-14G-82) weighs 2.2 pounds, and the smallest SCSR is the SR-100 which weighs 6 pounds and is approximately 2.5 larger than the W-65 filter and is awkward to wear. The petitioner asserts that the proposed alternative method would provide at least the same measure of protection as the existing standard.

7. Intrepid Potash NM LLC

[Docket No. M-2006-008-M]

Intrepid Potash NM LLC, P.O. Box 101, Carlsbad, New Mexico 88221-0101 has filed a petition to modify the application of 30 CFR 57.15031 (Location of self-rescue devices) to its Intrepid Underground Potash Mine (MSHA I.D. No. 29-00175 (West)) located in Eddy County, New Mexico. The petitioner proposes to use 10-Minute (Oeanco M-20 or equivalent) and 60-Minute Self-Contained Self-Rescuers (SCSRs) in their Underground Potash Mine outside of Carlsbad, New Mexico. The petitioner states that the miner will wear the M-20 units (MSHA rated at 10 minutes) on their person and a 60-Minute unit (the SR-100, EBA 6.5 or equivalent MSHA rated for 60 minutes) on their vehicles or equipment. The units will be located within 200 to 500 feet or 5 minutes maximum of the employee. The petitioner asserts that the proposed alternative method would provide at least the same measure of protection as the existing standard.

8. Intrepid Potash NM LLC

[Docket No. M-2006-009-M]

Intrepid Potash NM LLC, P.O. Box 101, Carlsbad, New Mexico 88221-0101 has filed a petition to modify the application of 30 CFR 57.15031 (Location of self-rescue devices) to its Intrepid Underground Potash Mine (MSHA I.D. No. 29-00170 (East)) located in Lea County, New Mexico. The petitioner proposes to use 10-Minute (Oeanco M-20 or equivalent) and 60-Minute Self-Contained Self-Rescuers (SCSRs) in their Underground Potash Mine outside of Carlsbad, New Mexico. The petitioner states that the miner will wear the M-20 units (MSHA rated at 10 minutes) on their person and a 60-Minute unit (the SR-100, EBA 6.5 or equivalent MSHA rated for 60 minutes) on their vehicles or equipment. The units will be located within 200 to 500 feet or 5 minutes maximum of the employee. The petitioner asserts that the proposed alternative method would provide at least the same measure of protection as the existing standard.

Request for Comments

Persons interested in these petitions are encouraged to submit comments via E-mail to Standards-Petitions@dol.gov. Include “petitions for modification” in the subject line of the e-mail. Comments can also be submitted by fax, regular mail, or hand-delivery. If faxing your comments, include “petitions for modification” on the subject line of the fax. Comments by regular mail or hand-delivery should be submitted to the Mine Safety and Health Administration, Office of Standards, Regulations, and Variances, 1100 Wilson Boulevard, Room 2350, Arlington, Virginia 22209. If hand-delivered, you are required to stop by the 21st floor to check in with the receptionist. All comments must be postmarked or received by the Office of Standards, Regulations, and Variances on or before November 2, 2006. Copies of the petitions are available for inspection at that address.

Dated at Arlington, Virginia, this 27th day of September 2006.
Patricia W. Silvey,
Acting Director, Office of Standards, Regulations, and Variances.

[FR Doc. E6-16309 Filed 10-2-06; 8:45 am]

BILLING CODE 4510-43-P